DEPARTMENT OF STATE

[Public Notice: 12128]

60-Day Notice of Proposed Information Collection: Questionnaire—Loss of United States Nationality

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 18, 2023.

ADDRESSES: You may submit comments by any of the following methods:

• Web: Persons with access to the internet may comment on this notice by going to www.Regulations.gov. You can search for the document by entering “Docket Number: DOS-2023-0022” in the Search field. Then click the “Comment Now” button and complete the comment form.

• Email: OliphantCE@state.gov.

• Regular Mail: Send written comments to: Send written comments to U.S. Department of State, CA/OCS/MSU, SA-17, 10th Floor, Washington, DC 20522-1710.

You must include the DS form number (if applicable), information collection title, and the OMB control number in any correspondence.

FOR FURTHER INFORMATION CONTACT: Direct requests for additional information regarding the collection listed in this notice, including requests for copies of the proposed collection instrument and supporting documents, to Clifton Oliphant at SA-17, 10th Floor, Washington, DC 20522-1710, who may be reached on 202-485-6040 or at OliphantCE@state.gov.

SUPPLEMENTARY INFORMATION:

• Title of Information Collection: Questionnaire—Loss of United States Nationality.

• OMB Control Number: 1405-0178.

• Type of Request: Revision of a currently approved collection.

• Originating Office: Bureau of Consular Affairs, Overseas Citizens Services (CA/OCS).

• Form Number: DS-4079.

• Respondents: United States citizens.

• Estimated Number of Respondents: 4,850.

• Estimated Number of Responses: 4,850.

• Average Time per Response: 43 minutes.

• Total Estimated Burden Time: 3,475 hours.

• Frequency: Variable by country.

• Obligation to Respond: Voluntary, but if not completed, will not be eligible to request a Certificate of Loss of Nationality of the United States.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the information requested on the DS-4079, “Questionnaire—Loss of Nationality,” is to assist the Department of State in determining whether a U.S. citizen who requests a Certificate of Loss of Nationality of the United States under Immigration and Nationality Act (INA) section 349(a)(1)-(5) (8 U.S.C. 1481) has relinquished United States nationality by performing a potentially expatriating act voluntarily and with the intention of relinquishing United States nationality. INA section 104 (8 U.S.C. 1104) and INA section 358 (8 U.S.C. 1501) authorize the Department of State to collect this information.

Methodology

The Bureau of Consular Affairs will post this form on Department of State websites to give respondents the opportunity to complete the form online or print the form and fill it out manually and submit the form in person or by fax or mail.

Kevin E. Bryant,
Deputy Director, Office of Directives Management, Department of State.

[FR Doc. 2023-15307 Filed 7-18-23; 8:45 am]

BILLING CODE 4710-06-P